DEPARTMENT OF COMMERCE

International Trade Administration

Overseas Business Interest Questionnaire

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (C) (2) (A)).

DATES: Written comments must be submitted on or before November 30, 2001.

ADDRESSES: Direct all written comments to Madeleine Clayton, Departmental Paperwork Clearance Officer, (202) 482-3129, Department of Commerce, Room 6086, 14th & Constitution Avenue, NW, Washington, DC 20230 or via internet at MClayton@doc.gov.

FOR FURTHER INFORMATION CONTACT: Request for additional information or copies of the information collection instrument and instructions should be directed to Thomas Nisbet, telephone 202-482-5657, fax 202-482-1999, e-mail Tom_Nisbet@ ita.doc.gov or to Joseph English, telephone 202-482-3334, fax 202-482-5362, e-mail Joseph.English@ita.doc.gov.

SUPPLEMENTARY INFORMATION:

I. Abstract

This collection allows U.S. firms participating in overseas trade events sponsored by the U.S. Department of Commerce's International Trade Administration (ITA) an opportunity to specifically identify their marketing objective for a specific event as well as current marketing activities and status in the specific foreign markets where the event will take place. The U.S. and Foreign Commercial Service/ITA overseas posts use the information to schedule business appointments during the trade event, arrange “blue ribbon” calls on key agents or distributors identified by participants prior to an event, and to issue specific show invitations appropriate prospective overseas business partners. It is critical to prearrange business appointments thus providing U.S. participants with a program of high caliber business appointments.

II. Method of Data Collection

Form ITA-471P is sent by request to U.S. firms. Applicant firms complete the form and forward it to the appropriate Department of Commerce trade event manager.

III. Data

OMB Number: 0625-0039.

Form Number: ITA-471P.

Type of Review: Regular Submission.

Affected Public: Business or other for-profit companies; small to medium sized businesses or organizations.

Estimated Number of Respondents: 1,000.

Estimated Time Per Response: 30 minutes.

Estimated Total Annual Burden Hours: 490 hours.

Estimated Total Annual Costs: The estimated annual cost for this collection is $20,000.00 ($18,000.00 for respondents and $2,000.00 for federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: September 26, 2001.
Madeleine Clayton,
Departmental Paperwork Clearance Officer, Office of the Chief Information Officer.

[FR Doc. 01-24461 Filed 9-28-01; 8:45 am]

BILLING CODE 3510-DR-P